DEPARTMENT OF TRANSPORTATION

Federal Aviation Administration

14 CFR Part 71

[Docket No. FAA-2017-0223; Airspace Docket No. 17-ANM-9]

Proposed Amendment of Class D and E Airspace; Casper, WY

AGENCY: Federal Aviation Administration (FAA), DOT.

ACTION: Notice of proposed rulemaking (NPRM).

SUMMARY: This action proposes to amend controlled airspace at Casper/Natrona County International Airport, Casper WY. After a biennial review, the FAA proposes to enlarge Class D airspace; remove Class E airspace designated as an extension, reduce Class E airspace extending upward from 700 feet above the surface, and remove Class E airspace extending upward from 1,200 feet above the surface. Also, this action would update the airport's name and geographic coordinates for the associated Class D and E airspace areas to reflect the FAA's current aeronautical database. These proposed changes would enhance safety and management of instrument flight rules (IFR) operations at the airport.

DATES: Comments must be received on or before March 19, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2017-0223; Airspace Docket No. 17-ANM-9, at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW, Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would modify Class D and E airspace at Casper/Natrona County International Airport, Casper, WY, in support of IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2017-0223; Airspace Docket No. 17-ANM-9) and be submitted in triplicate to DOT Docket Operations (see ADDRESSES section for address and phone number).

Persons wishing the FAA to acknowledge receipt of their comments on this notice must submit with those comments a self-addressed, stamped postcard on which the following statement is made: “Comments to Docket No. FAA-2017-0223/Airspace Docket No. 17-ANM-9.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 1601 Lind Avenue SW, Renton, WA 98057.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) Part 71 by modifying Class D airspace and Class E surface area airspace at Casper/Natrona County International Airport (formerly Natrona County International Airport) to within a 4.9-mile radius (from a 4.3-mile radius) of the airport from the airport 294° bearing clockwise to the airport 193° bearing, and within a 7-mile radius (from a 4.3-mile radius) of the airport from the 193° bearing clockwise to the airport 294° bearing.

This proposal also would remove Class E airspace designated as an extension to Class D or E surface area.

Additionally, Class E airspace extending upward from 700 feet above the surface would be reduced to within a 9.5-mile radius of the airport (from a 24-mile radius) from the airport 248° bearing clockwise to the airport 294° bearing, and within a 7-mile radius from the airport 294° bearing clockwise to the airport 004° bearing, with segments extending to 13.5 miles northeast, 10.4 miles east, 16.9 miles southwest. Also, Class E airspace extending upward from 1,200 feet above the surface would be removed since it is wholly contained within the larger Casper Class E en route airspace, and duplication is not needed.

This proposal would also update the airport's geographic coordinates in the associated Class D and E airspace to reflect the FAA's current aeronautical database. Lastly, this action would replace the outdated term “Airport/Facility Directory” with the term “Chart Supplement” in the Class D and associated Class E airspace legal descriptions. These modifications are necessary for the safety and management of IFR operations at the airport.

Class D and Class E airspace designations are published in paragraph 5000, 6002, 6004, and 6005, respectively, of FAA Order 7400.11B, dated August 3, 2017 and effective September 15, 2017, which is incorporated by reference in 14 CFR 71.1. The Class D and Class E airspace designations listed in this document will be published subsequently in the Order.

Regulatory Notices and Analyses

The FAA has determined that this proposed regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM WY D Casper, WY [Amended]

Casper/Natrona County International Airport, WY

(Lat. 42°54′21″ N, long. 106°27′49″ W)

That airspace extending upward from the surface to and including 7,800 feet MSL within a 4.9-mile radius of Casper/Natrona County International Airport clockwise from the airport 294° bearing to the airport 193° bearing and within a 7-mile radius of the airport clockwise from the airport 193° bearing to the airport 294° bearing. This Class D airspace area is effective during the specific dates and times established in advance by a Notice to Airmen. The effective date and time will thereafter be continuously published in the Chart Supplement.

Paragraph 6002 Class E Airspace Designated as Surface Areas.

* * * * *

ANM WY E2 Casper, WY [Amended]

Casper/Natrona County International Airport, WY

(Lat. 42°54′21″ N, long. 106°27′49″ W)

That airspace extending upward from the surface within a 4.9-mile radius of Casper/Natrona County International Airport clockwise from the airport 294° bearing to the airport 193° bearing and within a 7-mile radius of the airport clockwise from the airport 193° bearing to the airport 294° bearing. This Class E airspace area is effective during the specific dates and times established in advance by a Notice to Airmen. The effective date and time will thereafter be continuously published in the Chart Supplement.

Paragraph 6004 Class E Airspace Areas Designated as an Extension to a Class D or Class E Surface Area

* * * * *

ANM WY E4 Casper, WY [Removed]

Paragraph 6005 Class E Airspace Areas Extending Upward From 700 Feet or More Above the Surface of the Earth.

* * * * *

ANM WY E5 Casper, WY [Amended]

Casper/Natrona County International Airport, WY

(Lat. 42°54′21″ N, long. 106°27′49″ W)

That airspace upward from 700 feet above the surface within a 9.5-mile radius of Casper/Natrona County International Airport from the airport 248° bearing clockwise to the airport 294° bearing and within a 7-mile radius of the airport from the airport 294° bearing clockwise to the airport 004° bearing and within 3.9 miles northwest and 4.8 miles southeast of the airport 036° bearing extending from the airport to 13.5 miles northeast of the airport and within 3.6 miles each side of the airport 088° bearing extending from the airport to 10.4 miles east of the airport and within 4.1 miles each side of the airport 223° bearing extending from the airport to 17 miles southwest of the airport.

Issued in Seattle, Washington, on January 26, 2018.
Shawn M. Kozica,
Manager, Operations Support Group, Western Service Center.

[FR Doc. 2018-02013 Filed 2-1-18; 8:45 am]

BILLING CODE 4910-13-P